NATIONAL SCIENCE FOUNDATION (NSF)

Sunshine Act Meetings; National Science Board

The National Science Board, pursuant to NSF regulations (45 CFR part 614), the National Science Foundation Act, as amended, (42 U.S.C. 1862n-5), and the Government in the Sunshine Act (5 U.S.C. 552b), hereby gives notice of a change in the date and time of a meeting for the transaction of National Science Board business.

FEDERAL REGISTER CITATION OF PREVIOUS ANNOUNCEMENT: 84 FR 55990, published on Friday, October 18, 2019.

PREVIOUSLY ANNOUNCED TELECONFERENCE MEETING TIME AND DATE: Tuesday, October 22, 2019 at 4:00-4:30 p.m. EDT.

NEW TELECONFERENCE MEETING TIME AND DATE: Wednesday, October 23, 2019, at 1:00-1:30 p.m. EDT. All other information about the meeting remains the same.

CONTACT PERSON FOR MORE INFORMATION: Reba Bandyopadhyay, rbandyop@nsf.gov, 703/292-7000. Please refer to the National Science Board website for additional information. Meeting information and schedule updates (time, place, subject matter, and status of meeting) may be found at http://www.nsf.gov/nsb/meetings/notices.jsp#sunshine.

SUPPLEMENTAL INFORMATION: This change is being made on short notice. Two NSB members participating in the teleconference are now expected to testify before Congress at the originally scheduled time. All participating members (the majority) of the NSB Executive Committee approved the change in the date and time and affirmed that Board business justified the change on short notice.

Chris Blair,
Executive Assistant to the National Science Board Office.

[FR Doc. 2019-23142 Filed 10-18-19; 4:15 pm]

BILLING CODE 7555-01-P